DEPARTMENT OF TRANSPORTATION

Federal Aviation Administration

14 CFR Part 97

[Docket No.: FAA-2015-0783; Amendment No. 97-1337]

RIN 2120-AA65

Standard Instrument Approach Procedures, and Takeoff Minimums and Obstacle Departure Procedures; Miscellaneous Amendments

AGENCY: Federal Aviation Administration (FAA), Department of Transportation (DOT).

ACTION: Final rule.

SUMMARY: The FAA is issuing a final rule that removes certain redundant or underutilized ground-based nondirectional radio beacon (NDB) and VHF omnidirectional range (VOR) Standard Instrument Approach Procedures (SIAPs). On April 13, 2015, the FAA published a notice of proposed rulemaking to remove 736 procedures. After consideration of public comments and conducting an internal review, the FAA has decided to move forward with removing 334 procedures that did not receive public comment. The 198 procedures for which comments were received will be addressed in the future. The FAA also identified 191 procedures that were proposed for removal but that do not meet the criteria at this time. Those 191 procedures may be reevaluated at a later date; however, their removal is withdrawn from consideration in this rule. There are 13 procedures erroneously identified in the NPRM that were already in the process for removal and should not have been included in this proceeding. The FAA concluded that these procedures should continue in the separate proceeding and are not addressed in this final rule.

DATES: This rule is effective December 10, 2015. The removal date of each SIAP, associated Takeoff Minimums, and ODP is as specified in the amendatory provisions.

ADDRESSES: For information on where to obtain copies of rulemaking documents and other information related to this final rule, see “How To Obtain Additional Information” in the SUPPLEMENTARY INFORMATION section of this document.

FOR FURTHER INFORMATION CONTACT: For technical questions concerning this action, contact Mark D. Adams, Aeronautical Navigation Products, AJV-5, Aeronautical Information Services, Federal Aviation Administration, Air Traffic Organization, 6500 S. MacArthur Blvd. (MMAC), Bldg. 5, Room 104, Oklahoma City, OK 73169; Telephone (405) 954-9946; Email AMC-ATO-IFP-Cancellations@faa.gov.

SUPPLEMENTARY INFORMATION:

Authority for This Rulemaking

The FAA's authority to issue rules on aviation safety is found in Title 49 of the United States Code. Subtitle I, Section 106 describes the authority of the FAA Administrator. Subtitle VII, Aviation Programs, describes in more detail the scope of the agency's authority.

This rulemaking is promulgated under the authority described in Subtitle VII, Part A, Subpart i, Section 40103, sovereignty and use of airspace, and Subpart iii, Section 44701, general requirements. Under these sections, the FAA is charged with prescribing regulations to regulate the safe and efficient use of the navigable airspace; to govern the flight, navigation, protection, and identification of aircraft for the protection of persons and property on the ground, and for the efficient use of the navigable airspace (49 U.S.C. 40103(b)), and to promote safe flight of civil aircraft in air commerce by prescribing regulations and minimum standards for other practices, methods, and procedures necessary for safety in air commerce and national security (49 U.S.C. 44701(a)(5)). This action is within the scope of that authority.

SIAPs are promulgated by rulemaking procedures and are incorporated by reference pursuant to 5 U.S.C. 552(a) and 1 CFR part 51 into Title 14 of the Code of Federal Regulations; Part 97 (14 CFR part 97), Subpart C—TERPS Procedures.

Background

On June 27, 2014, the FAA published criteria for determining whether to retain existing SIAPs (79 FR 36576). Removing identified ground-based NDB and VOR SIAPs is an integral part of right-sizing the quantity and type of procedures in the National Airspace System (NAS). As new technology facilitates the introduction of area navigation (RNAV) instrument approach procedures, the number of procedures available in the NAS has nearly doubled over the past decade. The complexity and cost of maintaining the existing ground based navigational infrastructure while expanding RNAV capability is not sustainable.

On April 13, 2015, the FAA published a notice of proposed rulemaking (NPRM) proposing to remove certain SIAPs (80 FR 19577). The NPRM included a list of 736 procedures that were identified for cancellation and the comment period closed on May 28, 2015.

The following 13 SIAPs were proposed for cancellation in the NPRM. In reviewing the procedures and comments, the FAA realized that these 13 procedures were already being processed for cancellation and were at various stages. Additionally, the navigation facilities supporting a number of these procedures were either decommissioned or at various stages of that process. The inclusion of these procedures in the NPRM was in error, in that these procedures were already subject to prior agency commitments. The FAA notes three of these procedures received comment (VOR RWY 18 at Pryor Field Regional, Alabama (DCU); NDB RWY 14 at Montgomery County Airpark, Maryland (GAI); and NDB RWY 27 at Athens/Ben Epps, Georgia (AHN)) concerning lack of backup instrument flight procedures in case of instrument landing system failure, impacts to instrument flight training, and reduced airport access. The FAA confirms that for each of the three above affected procedures, the airports continue to maintain at least one other ground based procedure. In addition, there remain procedures available within a 20 nm radius of these airports for instrument flight training. The procedures are listed below with the associated Federal Register citation announcing the cancellation.

State | Airport name | ID | Approach procedure cancellation information
AZ | Nogales Intl | OLS | NDB OR GPS-C (80 FR 50760; August 21, 2015).
AZ | Yuma MCAS/Yuma Intl | NYL | VOR/DME RNAV RWY 21R (Navy).
AL | Pryor Field Rgnl | DCU | VOR RWY 18 (Procedure to be canceled December 10, 2015).
CA | San Francisco Intl | SFO | VOR-B (80 FR 42023; July 16, 2015).
GA | Athens/Ben Epps | AHN | NDB RWY 27 (80 FR 61978; October 15, 2015).
KS | Great Bend Muni | GBD | NDB-A (80 FR 45604; July 31, 2015).
MD | Montgomery County Airpark | GAI | NDB RWY 14 (79 FR 40621; July 14, 2014).
MI | Ford | IMT | NDB RWY 1 (Procedure to be canceled December 10, 2015).
NJ | Teterboro | TEB | VOR/DME-A (80 FR 42023; July 16, 2015).
WI | Rice Lake Rgnl-Carl's Field | RPD | VOR RWY 01 (80 FR 45860; August 23, 2015).
WI | Central Wisconsin | CWA | VOR/DME RWY 35 (80 FR 61978; October 15, 2015).
WI | Alexander Field South Wood County | ISW | VOR/DME OR GPS-A (80 FR 61978 October 15, 2015).
WI | Stevens Point Muni | STE | VOR/DME RWY 21 (80 FR 61978; October 15, 2015).

The FAA proposed to cancel 191 procedures listed in the following table. However, after further consideration and a reevaluation of the policy criteria described in the June 27, 2014, statement of policy, the FAA has determined that these procedures do not meet the criteria at this time. Therefore these procedures will remain in effect and are not included in this final rule; however the FAA may reevaluate these procedures at a later date.

State | Airport name | ID | Approach procedure
AK | BETTLES | BTT | VOR/DME RWY 01.
AK | SITKA ROCKY GUTIERREZ | SIT | VOR/DME-A.
AK | UNALAKLEET | UNK | VOR/DME-D.
AL | ANNISTON RGNL | ANB | NDB RWY 5.
AL | BESSEMER | EKY | VOR RWY 05.
AL | WALKER COUNTY-BEVILL FIELD | JFX | VOR/DME-A.
AR | WALNUT RIDGE RGNL | ARG | VOR-A.
AR | HOT SPRINGS/MEMORIAL FIELD | HOT | VOR Z RWY 05.
AR | WEST MEMPHIS MUNI | AWM | VOR/DME-A.
AR | BAXTER COUNTY | BPK | VOR-A.
AR | JONESBORO MUNI | JBR | VOR RWY 23.
AR | NORTH LITTLE ROCK MUNI | ORK | VOR RWY 35.
AZ | BISBEE DOUGLAS INTL | DUG | VOR RWY 17.
AZ | CASA GRANDE MUNI | CGZ | VOR RWY 05.
AZ | GRAND CANYON NATIONAL PARK | GCN | VOR RWY 03.
CA | JACK MC NAMARA FIELD | CEC | VOR RWY 12, formerly VOR RWY 11.
CA | MERCED RGNL/MACREADY FIELD | MCE | VOR RWY 30.
CA | REDDING MUNI | RDD | VOR RWY 34.
CA | SAN BERNARDINO INTL | SBD | NDB RWY 06.
CA | NAPA COUNTY | APC | VOR RWY 06.
CA | BUCHANAN FIELD | CCR | VOR RWY 19R.
CA | CHINO | CNO | VOR RWY 26R.
CA | MC CLELLAN-PALOMAR | CRQ | VOR-A.
CA | LONG BEACH/DAUGHERTY FIELD | LGB | VOR OR TACAN RWY 30.
CA | CASTLE | MER | VOR/DME RWY 31.
CA | MODESTO CITY-CO-HARRY SHAM FLD | MOD | VOR/DME RWY 28R.
CA | OXNARD | OXR | VOR RWY 25.
CA | SACRAMENTO EXECUTIVE | SAC | VOR RWY 02.
CA | WATSONVILLE MUNI | WVI | VOR/DME-A.
CO | DURANGO-LA PLATA COUNTY | DRO | VOR/DME RWY 03.
CO | MONTROSE RGNL | MTJ | VOR/DME RWY 13.
CO | TELLURIDE RGNL | TEX | VOR/DME-A.
CT | DANBURY MUNI | DXR | VOR OR GPS-A.
CT | HARTFORD-BRAINARD | HFD | VOR-A.
CT | TWEED-NEW HAVEN | HVN | VOR RWY 02.
FL | NORTH PALM BEACH COUNTY GENERAL AVIATION | F45 | VOR RWY 08R.
GA | WAYCROSS-WARE COUNTY | AYS | VOR-A.
GA | BRUNSWICK GOLDEN ISLES | BQK | VOR/DME-B.
GA | ATLANTA RGNL FALCON FIELD | FFC | NDB RWY 31.
GA | LEE GILMER MEMORIAL | GVL | NDB RWY 05.
GA | PERRY-HOUSTON COUNTY | PXE | VOR-A.
GA | EAST GEORGIA RGNL | SBO | NDB RWY 14.
GA | HENRY TIFT MYERS | TMA | VOR RWY 28.
IA | AMES MUNI | AMW | VOR RWY 31.
IA | COUNCIL BLUFFS MUNI | CBF | VOR-A.
IA | KEOKUK MUNI | EOK | NDB RWY 14.
IA | KEOKUK MUNI | EOK | NDB RWY 26.
IA | SHENANDOAH MUNI | SDA | VOR/DME RWY 12.
ID | JOSLIN FIELD-MAGIC VALLEY RGNL | TWF | VOR RWY 26.
IL | AURORA MUNI | ARR | VOR RWY 36.
IL | ALBERTUS | FEP | VOR RWY 24.
IL | LANSING MUNI | IGQ | VOR-A.
IL | GREATER KANKAKEE | IKK | VOR RWY 22.
IL | CHICAGO EXECUTIVE | PWK | VOR RWY 16.
IN | ANDERSON MUNI-DARLINGTON FIELD | AID | VOR-A.
IN | PUTNAM COUNTY | 4I7 | VOR/DME-A.
IN | KENTLAND MUNI | 50I | VOR/DME RNAV OR GPS RWY 27.
IN | ANDERSON MUNI-DARLINGTON FIELD | AID | NDB RWY 30.
IN | WARSAW MUNI | ASW | VOR RWY 9.
IN | METTEL FIELD | CEV | VOR-A.
IN | DE KALB COUNTY | GWB | VOR OR GPS-A.
IN | CLARK RGNL | JVY | NDB RWY 18.
IN | PURDUE UNIVERSITY | LAF | VOR-A.
IN | LA PORTE MUNI | PPO | VOR-A.
KS | COLONEL JAMES JABARA | AAO | VOR-A.
KS | GREAT BEND MUNI | GBD | NDB RWY 35.
KS | RENNER FLD/GOODLAND MUNI/ | GLD | VOR RWY 30.
KS | INDEPENDENCE MUNI | IDP | VOR-A.
KS | LAWRENCE MUNI | LWC | VOR/DME-A.
KY | TAYLOR COUNTY | AAS | VOR/DME-A.
LA | GEORGE R CARR MEMORIAL AIR FLD | BXA | VOR/DME-A.
LA | FALSE RIVER RGNL | HZR | NDB RWY 36.
MA | BEVERLY MUNI | BVY | VOR RWY 16.
MD | HAGERSTOWN RGNL-RICHARD A. HENSEN FIELD | HGR | VOR RWY 09.
MD | OCEAN CITY MUNI | OXB | VOR-A.
MI | HOUGHTON COUNTY MEMORIAL | CMX | VOR RWY 25.
MI | COLEMAN A YOUNG MUNI | DET | NDB RWY 15.
MI | COLEMAN A YOUNG MUNI | DET | VOR RWY 33.
MI | DELTA COUNTY | ESC | VOR RWY 36.
MI | GERALD R FORD INTL | GRR | VOR RWY 17.
MI | FORD | IMT | VOR RWY 31.
MI | KALAMAZOO/BATTLE CREEK INTL | AZO | VOR RWY 35.
MI | WEST MICHIGAN RGNL, formerly TULIP CITY | BIV | VOR-A.
MI | W K KELLOGG | BTL | NDB RWY 23R.
MI | SAGINAW COUNTY H.W. BROWNE | HYX | VOR/DME-A.
MI | MENOMINEE-MARINETTE TWIN COUNTY | MNM | VOR-A.
MI | ST CLAIR COUNTY INTL | PHN | NDB RWY 04.
MI | PELLSTON RGNL AIRPORT OF EMMET COUNTY | PLN | VOR RWY 23.
MN | FALLS INTL | INL | VOR RWY 13.
MN | THIEF RIVER FALLS RGNL | TVF | VOR RWY 13.
MN | THIEF RIVER FALLS RGNL | TVF | VOR RWY 31.
MN | CHANDLER FIELD | AXN | VOR RWY 22.
MN | GRAND RAPIDS/ITASCA CO-GORDON NEWSTROM FLD | GPZ | VOR RWY 34.
MN | WARROAD INTL MEMORIAL | RRT | NDB RWY 31.
MN | SOUTH ST PAUL MUNI-RICHARD E. FLEMING FIELD | SGS | NDB-B.
MO | FARMINGTON RGNL | FAM | VOR/DME-A.
MO | KIRKSVILLE RGNL | IRK | VOR-A.
MO | MEXICO MEMORIAL | MYJ | VOR/DME RWY 24.
MS | GRENADA MUNI | GNF | NDB RWY 13.
MS | JOHN BELL WILLIAMS | JVW | NDB RWY 12.
NC | JOHNSTON COUNTY | JNX | NDB RWY 03.
NC | CLINTON-SAMPSON COUNTY | CTZ | VOR/DME-A.
NC | WAYNE EXECUTIVE JETPORT | GWW | VOR-A.
NC | HICKORY RGNL | HKY | VOR/DME RWY 24.
NC | HENDERSON-OXFORD | HNZ | NDB RWY 6.
NC | TRIANGLE NORTH EXECUTIVE | LHZ | VOR/DME-A.
NC | ALBERT J. ELLIS | OAJ | NDB RWY 5.
NC | WARREN FIELD | OCW | VOR/DME RWY 05.
ND | DEVILS LAKE RGNL | DVL | VOR RWY 31.
ND | HECTOR INTL | FAR | VOR OR TACAN RWY 36.
ND | GRAND FORKS INTL | GFK | VOR RWY 35L.
ND | JAMESTOWN RGNL | JMS | VOR RWY 31.
ND | MINOT INTL | MOT | VOR RWY 13.
ND | MINOT INTL | MOT | VOR RWY 31.
NE | BREWSTER FIELD | HDE | VOR/DME-A.
NH | SKYHAVEN | DAW | VOR/DME-A.
NH | DILLANT-HOPKINS | EEN | VOR RWY 02.
NH | LACONIA MUNI | LCI | NDB RWY 8.
NH | LEBANON MUNI | LEB | VOR RWY 25.
NJ | TETERBORO | TEB | VOR RWY 24.
NJ | CAPE MAY COUNTY | WWD | VOR-A.
NM | TUCUMCARI MUNI | TCC | VOR RWY 21.
NM | CAVERN CITY AIR TRML | CNM | VOR RWY 32L.
NM | GRANT COUNTY | SVC | VOR-A.
NV | RENO/TAHOE INTL | RNO | VOR-D.
NY | WATERTOWN INTL | ART | VOR RWY 07.
NY | REPUBLIC | FRG | NDB RWY 1.
NY | GENESEE COUNTY | GVQ | VOR/DME-A.
NY | BROOKHAVEN | HWV | VOR RWY 06.
NY | CHAUTAUQUA COUNTY/JAMESTOWN | JHW | VOR RWY 25.
OH | ASHLAND COUNTY | 3G4 | VOR-A.
OH | BELLEFONTAINE RGNL | EDJ | VOR/DME RWY 25.
OH | FAIRFIELD COUNTY | LHQ | VOR OR GPS-A.
OH | LORAIN COUNTY RGNL | LPR | VOR-A.
OH | MARION MUNI | MNN | VOR-A.
OH | OHIO STATE UNIVERSITY | OSU | NDB RWY 09R.
OH | BOLTON FIELD | TZR | NDB RWY 4.
OH | OHIO UNIVERSITY SNYDER FIELD | UNI | NDB RWY 25.
OH | NEWARK-HEATH | VTA | VOR-A.
OK | SUNDANCE AIRPARK | HSD | VOR RWY 17.
PA | SOMERSET COUNTY | 2G9 | NDB RWY 25.
PA | LANCASTER | LNS | VOR/DME RWY 08.
SC | GREENVILLE DOWNTOWN | GMU | NDB RWY 1.
SC | AIKEN MUNI | AIK | NDB RWY 25.
SC | ANDERSON RGNL | AND | VOR RWY 05.
SC | MARION COUNTY | MAO | VOR/DME-A.
SC | SUMTER MUNI | SMS | NDB RWY 23.
SD | ABERDEEN RGNL | ABR | VOR RWY 31.
SD | HURON RGNL | HON | VOR RWY 12.
TN | KNOXVILLE DOWNTOWN ISLAND | DKX | VOR/DME-B.
TN | MOORE-MURRELL | MOR | NDB RWY 5.
TN | UPPER CUMBERLAND RGNL | SRB | NDB RWY 04.
TN | TULLAHOMA RGNL/WM NORTHERN FIELD | THA | NDB RWY 18.
TX | DALHART MUNI | DHT | VOR RWY 17.
TX | BAY CITY MUNI | BYY | VOR/DME-A.
TX | C DAVID CAMPBELL FIELD-CORSICANA MUNI | CRS | VOR/DME-A.
TX | DEL RIO INTL | DRT | VOR-A.
TX | DENTON MUNI | DTO | NDB RWY 18.
TX | ARLINGTON MUNI | GKY | VOR/DME RWY 34.
TX | SCHOLES INTL AT GALVESTON | GLS | VOR RWY 14.
TX | SAN MARCOS MUNI | HYI | NDB RWY 13.
TX | SKYLARK FIELD | ILE | VOR-A.
TX | PALESTINE MUNI | PSN | VOR/DME RWY 18.
TX | RUSK COUNTY | RFI | VOR/DME-A.
TX | SUGAR LAND RGNL | SGR | VOR/DME-A.
TX | SHEPPARD AFB/WICHITA FALLS MUNI | SPS | NDB RWY 33L.
TX | SHEPPARD AFB/WICHITA FALLS MUNI | SPS | VOR-D.
TX | COLLIN COUNTY RGNL AT MC KINNEY | TKI | VOR/DME-A.
TX | HUNTSVILLE MUNI | UTS | VOR/DME-A.
UT | DELTA MUNI | DTA | VOR RWY 35.
UT | CARBON COUNTY RGNL/BUCK DAVIS FIELD | PUC | VOR/DME RWY 01.
VA | VIRGINIA TECH/MONTGOMERY EXECUTIVE | BCB | NDB-A.
VA | ACCOMACK COUNTY | MFV | VOR/DME RWY 03.
VA | HANOVER COUNTY MUNI | OFP | VOR RWY 16.
VA | STAFFORD RGNL | RMN | VOR RWY 33.
VA | SHENANDOAH VALLEY RGNL | SHD | NDB RWY 05.
VI | CYRIL E KING | STT | VOR-A.
VT | EDWARD F KNAPP STATE | MPV | VOR RWY 35.
WA | SPOKANE INTL | GEG | VOR RWY 03.
WA | ARLINGTON MUNI | AWO | NDB RWY 34.
WA | RICHLAND | RLD | VOR/DME-A.
WA | FELTS FIELD | SFF | VOR RWY 04L.
WI | LAKELAND/NOBLE F. LEE MEM. FIELD | ARV | NDB RWY 28.
WI | BARABOO WISCONSIN DELLS | DLL | VOR-A.
WI | EAGLE RIVER UNION | EGV | VOR/DME RWY 04.
WI | TRI-COUNTY RGNL | LNR | VOR-A.
WI | JOHN H BATTEN | RAC | VOR RWY 04.
WI | SHEBOYGAN COUNTY MEMORIAL | SBM | VOR RWY 22.
WI | WAUKESHA COUNTY | UES | VOR-A.
WV | ONA AIRPARK | 12V | VOR-A.
WV | FAIRMONT MUNI-FRANKMAN FIELD | 4G7 | VOR/DME-A.

Lastly, the FAA received comments on 198 SIAPs that are still under review. Once the agency has made a determination on those procedures, and if warranted, the FAA will issue a final rule cancelling any subject procedures. For the remaining 335 SIAPs proposed in the NPRM upon which no comments were received, the FAA has decided to proceed with cancellation of those procedures.

The Amendment

SIAPs and associated supporting data adopted or removed by the FAA are documented on FAA Forms 8260-3, 8260-4, and 8260-5, which are incorporated by reference under 5 U.S.C. 552(a), 1 CFR part 51, and 14 CFR part 97. The following procedures did not receive any comments and the FAA has determined that they should be removed consistent with FAA policy on maintaining instrument approach procedures in the NAS. Additionally, the list can be viewed on the Aeronautical Information Services IFP Announcements and Reports Web page at the following link, https://www.faa.gov/air_traffic/flight_info/aeronav/procedures/reports/.

Conclusion

The FAA has determined that this final rule only involves an established body of technical regulations for which frequent and routine amendments are necessary to keep them operationally current. It, therefore—(1) is not a “significant regulatory action” under Executive Order 12866; (2) is not a “significant rule” under DOT Regulatory Policies and Procedures (44 FR 11034; February 26, 1979) and (3) does not warrant preparation of a regulatory evaluation as the anticipated impact is so minimal. For the same reason, the FAA certifies that this amendment will not have a significant economic impact on a substantial number of small entities under the criteria of the Regulatory Flexibility Act.

Additional Information

A. Availability of Rulemaking Documents

An electronic copy of rulemaking documents may be obtained from the Internet by—

1. Searching the Federal eRulemaking Portal (http://www.regulations.gov);

2. Visiting the FAA's Regulations and Policies Web page at http://www.faa.gov/regulations_policies or

3. Accessing the Government Publishing Office's Web page at http://www.gpo.gov/fdsys/.

Copies may also be obtained by sending a request to the Federal Aviation Administration, Office of Rulemaking, ARM-1, 800 Independence Avenue SW., Washington, DC 20591, or by calling (202) 267-9677. Persons requesting additional information must identify the docket or amendment number of this rulemaking.

All documents the FAA considered in developing this rule, including technical reports, may be accessed from the Internet through the Federal eRulemaking Portal referenced in item (1) above.

B. Comments Submitted to the Docket

Comments received may be viewed by going to http://www.regulations.gov and following the online instructions to search the docket number for this action. Anyone is able to search the electronic form of all comments received into any of the FAA's dockets by the name of the individual submitting the comment (or signing the comment, if submitted on behalf of an association, business, labor union, etc.).

C. Small Business Regulatory Enforcement Fairness Act

The Small Business Regulatory Enforcement Fairness Act (SBREFA) of 1996 requires FAA to comply with small entity requests for information or advice about compliance with statutes and regulations within its jurisdiction. A small entity with questions regarding this document, may contact its local FAA official, or the person listed under the FOR FURTHER INFORMATION CONTACT heading at the beginning of the preamble. To find out more about SBREFA on the Internet, visit http://www.faa.gov/regulations_policies/rulemaking/sbre_act/.

List of Subjects in 14 CFR Part 97

Air traffic control, Airports, Incorporation by reference, Navigation (air).

Issued under authority provided by 49 U.S.C. 106(f), 40103(b), and 44701(a)(5), in Washington, DC, on October 30, 2015.
John S. Duncan,
Director, Flight Standards Service.

Adoption of the Amendment

Accordingly, pursuant to the authority delegated to me, Title 14, Code of Federal Regulations, Part 97 (14 CFR part 97) is amended by removing Standard Instrument Approach Procedures and/or Takeoff Minimums and Obstacle Departure Procedures effective at 0901 UTC on the dates specified, as follows:

PART 97—STANDARD INSTRUMENT APPROACH PROCEDURES

1. The authority citation for part 97 is revised to read as follows:

Authority: 49 U.S.C. 106(f), 106(g), 40103, 40106, 40113, 40114, 40120, 44502, 44514, 44701, 44719, 44721-44722.

2. Part 97 is amended by removing the specified procedures as follows:

The following procedures will be removed effective December 10, 2015.

State | Airport name | ID | Approach procedure
AK | ATQASUK EDWARD BURNELL SR MEMORIAL | ATK | NDB RWY 24.
AK | COLD BAY | CDB | VOR/DME OR TACAN-A.
AK | KOYUK ALFRED ADAMS | KKA | NDB/DME RWY 01.
AK | MC GRATH | MCG | VOR/DME OR TACAN RWY 16.
AZ | NOGALES INTL | OLS | VOR OR GPS-A.
CA | CHICO MUNI | CIC | VOR/DME RWY 13L.
CA | ONTARIO INTL | ONT | VOR/DME RWY 08R.
CA | LAKE TAHOE | TVL | VOR/DME OR GPS-A.
CT | IGOR I SIKORSKY MEMORIAL | BDR | VOR RWY 06.
CT | IGOR I SIKORSKY MEMORIAL | BDR | VOR RWY 29.
FL | ST PETERSBURG-CLEARWATER INTL | PIE | VOR/DME RWY 18L.
FL | SARASOTA/BRADENTON INTL | SRQ | VOR RWY 32.
IA | NORTHEAST IOWA RGNL | CCY | NDB RWY 12.
IL | DUPAGE | DPA | VOR RWY 10.
IN | ELKHART MUNI | EKM | VOR RWY 27.
IN | ELKHART MUNI | EKM | VOR/DME RWY 36.
KS | INDEPENDENCE MUNI | IDP | NDB RWY 35.
MA | NANTUCKET MEMORIAL | ACK | NDB RWY 24.
MA | GENERAL EDWARD LAWRENCE LOGAN INTL | BOS | VOR/DME RWY 15R.
MA | GENERAL EDWARD LAWRENCE LOGAN INTL | BOS | VOR/DME RWY 27.
MA | GENERAL EDWARD LAWRENCE LOGAN INTL | BOS | VOR/DME RWY 33L.
MD | BALTIMORE/WASHINGTON INTL THURGOOD MARSHALL | BWI | VOR/DME RWY 15L.
ME | DEWITT FLD, OLD TOWN MUNI | OLD | NDB RWY 22.
MI | GAYLORD RGNL | GLR | NDB RWY 9.
MI | JACKSON COUNTY-REYNOLDS FIELD | JXN | NDB RWY 24.
MI | CHERRY CAPITAL | TVC | NDB RWY 28.
MN | BAUDETTE INTL | BDE | VOR RWY 30.
MN | BRAINERD LAKES RGNL | BRD | NDB RWY 23.
MN | THIEF RIVER FALLS RGNL | TVF | NDB RWY 31.
MO | CHARLES B. WHEELER DOWNTOWN | MKC | NDB RWY 19.
MO | CHARLES B. WHEELER DOWNTOWN | MKC | VOR RWY 03.
MO | CHARLES B. WHEELER DOWNTOWN | MKC | VOR RWY 19.
MO | CHARLES B. WHEELER DOWNTOWN | MKC | VOR RWY 21.
MT | FRANK WILEY FIELD | MLS | VOR/DME RWY 04.
ND | SLOULIN FLD INTL | ISN | VOR/DME RWY 29.
ND | JAMESTOWN RGNL | JMS | NDB RWY 31.
NE | KEARNEY RGNL | EAR | NDB RWY 36.
NE | COLUMBUS MUNI | OLU | VOR/DME RWY 32.
NM | LEA COUNTY RGNL | HOB | VOR OR TACAN RWY 03.
NY | SULLIVAN COUNTY INTL | MSV | NDB RWY 15.
NY | GRIFFISS INTL | RME | VOR/DME RWY 33.
OH | CINCINNATI MUNI AIRPORT-LUNKEN FIELD | LUK | NDB RWY 21L.
OK | BARTLESVILLE MUNI | BVO | VOR RWY 17.
OR | CORVALLIS MUNI | CVO | NDB RWY 17.
SC | GREENWOOD COUNTY | GRD | VOR RWY 27.
SD | ABERDEEN RGNL | ABR | NDB RWY 31.
SD | WATERTOWN RGNL | ATY | NDB RWY 35.
SD | CHAN GURNEY MUNI | YKN | NDB RWY 31.
TN | DYERSBURG RGNL | DYR | VOR/DME RWY 04.
TX | ABILENE RGNL | ABI | NDB RWY 35R.
TX | DALLAS/FORT WORTH INTL | DFW | VOR RWY 13R.
TX | ODESSA-SCHLEMEYER FIELD | ODO | NDB RWY 20.
VA | NEWPORT NEWS/WILLIAMSBURG INTL | PHF | NDB RWY 02.
WI | APPLETON INTL, formerly OUTAGAMIE COUNTY RGNL | ATW | VOR/DME RWY 03.
WI | APPLETON INTL, formerly OUTAGAMIE COUNTY RGNL | ATW | VOR/DME RWY 21.
WI | MIDDLETON MUNI-MOREY FIELD | C29 | VOR RWY 10.
WI | CHIPPEWA VALLEY RGNL | EAU | NDB RWY 22.

The following procedures will be removed effective February 04, 2016.

State | Airport name | ID | Approach procedure
AK | DILLINGHAM | DLG | VOR/DME RWY 19.
AK | FORT YUKON | FYU | VOR/DME OR TACAN-A.
AK | GULKANA | GKN | VOR/DME RWY 33.
AK | MIDDLETON ISLAND | MDO | VOR/DME RWY 20.
AK | RALPH WIEN MEMORIAL | OTZ | VOR/DME Y RWY 27.
AK | YAKUTAT | YAK | VOR/DME RWY 11.
AL | TALLADEGA MUNI | ASN | VOR/DME RWY 04.
AL | CRAIG FIELD | SEM | NDB RWY 33.
AR | BOONE COUNTY | HRO | VOR-A.
AR | LAKE VILLAGE MUNI | M32 | VOR/DME-B.
AR | ROGERS MUNI-CARTER FIELD | ROG | NDB RWY 20.
AR | ROGERS MUNI-CARTER FIELD | ROG | VOR/DME RWY 20.
AR | BENTONVILLEMUNI/LOUISEMTHADENFIELD | VBT | VOR/DME-B.
CA | MC CLELLAN AIRFIELD | MCC | VOR/DME RWY 16.
CA | NORMAN Y. MINETA SAN JOSE INTL | SJC | VOR RWY 12R.
CA | NORMAN Y. MINETA SAN JOSE INTL | SJC | VOR/DME RWY 30L.
CA | NORMAN Y. MINETA SAN JOSE INTL | SJC | VOR/DME RWY 30R.
CT | TWEED-NEW HAVEN | HVN | VOR-A.
FL | APALACHICOLA RGNL-CLEVE RANDOLPH FIELD | AAF | NDB RWY 32.
FL | JACKSONVILLE EXECUTIVE AT CRAIG | CRG | VOR/DME RWY 32.
FL | SAINT LUCIE COUNTY INTL | FPR | NDB-A.
FL | NORTHEAST FLORIDA RGNL | SGJ | VOR RWY 31.
GA | AUGUSTA RGNL AT BUSH FIELD | AGS | VOR/DME RWY 17.
GA | CRISP COUNTY-CORDELE | CKF | NDB RWY 10.
GA | DANIEL FIELD | DNL | NDB/DME-C.
GA | THOMSON-MCDUFFIE COUNTY | HQU | NDB RWY 10.
GA | MACON DOWNTOWN | MAC | VOR/DME-B.
GA | HARRIS COUNTY | PIM | NDB RWY 09.
GA | HENRY TIFT MYERS | TMA | VOR RWY 33.
IA | WATERLOO RGNL | ALO | VOR/DME RWY 30.
IA | SIBLEY MUNI | ISB | NDB OR GPS RWY 17.
IA | SIOUX GATEWAY/COL. BUD DAY FIELD | SUX | NDB RWY 13.
IA | SIOUX GATEWAY/COL. BUD DAY FIELD | SUX | NDB RWY 31.
ID | JOSLIN FIELD-MAGIC VALLEY RGNL | TWF | NDB RWY 26.
IL | FRASCA FIELD | C16 | VOR/DME OR GPS-B.
IL | OLNEY-NOBLE | OLY | VOR/DME-A.
IL | QUINCY RGNL-BALDWIN FIELD | UIN | VOR/DME RWY 22.
IN | SKY KING | 3I3 | VOR-B.
IN | MONROE COUNTY | BMG | VOR/DME RWY 24.
IN | MONROE COUNTY | BMG | VOR/DME RWY 35.
IN | NAPPANEE MUNI | C03 | VOR/DME OR GPS-A.
IN | EAGLE CREEK AIRPARK | EYE | NDB RWY 21.
IN | GREENWOOD MUNI | HFY | NDB RWY 1.
IN | NEW CASTLE-HENRY COUNTY MUNI | UWL | NDB RWY 27.
KS | RENNER FLD/GOODLAND MUNI/ | GLD | VOR/DME RWY 30.
LA | SHREVEPORT DOWNTOWN | DTN | VOR RWY 14.
LA | HOUMA-TERREBONNE | HUM | VOR RWY 12.
LA | FALSE RIVER RGNL | HZR | VOR/DME-A.
LA | ABBEVILLE CHRIS CRUSTA MEMORIAL | IYA | VOR/DME-A.
LA | HARRY P WILLIAMS MEMORIAL | PTN | VOR/DME-A.
MA | MINUTE MAN AIR FIELD | 6B6 | NDB-A.
MA | NORTHAMPTON | 7B2 | VOR-A.
MA | FITCHBURG MUNI | FIT | NDB RWY 20.
MA | MARSHFIELD MUNI-GEORGE HARLOW FIELD | GHG | NDB RWY 6.
MA | LAWRENCE MUNI | LWM | NDB RWY 5.
MD | BALTIMORE/WASHINGTON INTL THURGOOD MARSHALL | BWI | VOR RWY 28.
ME | BANGOR INTL | BGR | VOR/DME RWY 15.
ME | BANGOR INTL | BGR | VOR/DME RWY 33.
ME | NORTHERN MAINE RGNL ARPT AT PRESQUE ISLE | PQI | VOR/DME RWY 01.
MI | ALPENA COUNTY RGNL | APN | NDB RWY 1.
MI | KALAMAZOO/BATTLE CREEK INTL | AZO | NDB RWY 35.
MI | KALAMAZOO/BATTLE CREEK INTL | AZO | VOR RWY 05.
MI | KALAMAZOO/BATTLE CREEK INTL | AZO | VOR RWY 17.
MI | KALAMAZOO/BATTLE CREEK INTL | AZO | VOR RWY 23.
MI | W K KELLOGG | BTL | VOR RWY 23R.
MI | CHIPPEWA COUNTY INTL | CIU | VOR-A.
MI | HOUGHTON COUNTY MEMORIAL | CMX | VOR RWY 31.
MI | GAYLORD RGNL | GLR | VOR RWY 09.
MI | GERALD R. FORD INTL | GRR | VOR RWY 35.
MI | GOGEBIC-IRON COUNTY | IWD | VOR/DME RWY 27.
MI | MUSKEGON COUNTY | MKG | VOR-A.
MI | MENOMINEE-MARINETTE TWIN COUNTY | MNM | NDB RWY 3.
MI | LIVINGSTON COUNTY SPENCER J. HARDY | OZW | NDB RWY 13.
MI | PELLSTON RGNL AIRPORT OF EMMET COUNTY | PLN | VOR/DME RWY 05.
MI | SAWYER INTL | SAW | NDB RWY 01.
MI | SAWYER INTL | SAW | VOR RWY 01.
MN | ANOKA COUNTY-BLAINE ARPT(JANES FIELD) | ANE | VOR/DME RWY 27.
MN | AUSTIN MUNI | AUM | VOR RWY 35.
MN | AUSTIN MUNI | AUM | VOR/DME-A.
MN | BEMIDJI RGNL | BJI | VOR/DME RWY 31.
MN | FERGUS FALLS MUNI-EINAR MICKELSON FLD | FFM | NDB RWY 31.
MN | FERGUS FALLS MUNI-EINAR MICKELSON FLD | FFM | VOR RWY 35.
MN | FAIRMONT MUNI | FRM | VOR/DME RWY 31.
MN | FALLS INTL | INL | NDB RWY 31.
MN | FALLS INTL | INL | VOR/DME RWY 31.
MN | SOUTHWEST MINNESOTA RGNL MARSHALL/RYAN FLD | MML | VOR/DME RWY 30.
MN | WINONA MUNI-MAX CONRAD FLD | ONA | NDB RWY 30.
MN | WINONA MUNI-MAX CONRAD FLD | ONA | VOR-A.
MN | WORTHINGTON MUNI | OTG | NDB RWY 29.
MN | OWATONNA DEGNER RGNL | OWA | VOR/DME RWY 30.
MN | PARK RAPIDS MUNI-KONSHOK FIELD | PKD | NDB RWY 31.
MN | ST CLOUD RGNL | STC | VOR/DME RWY 13.
MN | THIEF RIVER FALLS RGNL | TVF | VOR/DME RWY 31.
MO | KIRKSVILLE RGNL | IRK | VOR/DME-B.
MO | SIKESTON MEMORIAL MUNI | SIK | VOR/DME RWY 02.
MS | GREENVILLE MID-DELTA | GLH | VOR/DME RWY 18L.
MS | HARDY-ANDERS FIELD NATCHEZ-ADAMS COUNTY | HEZ | VOR/DME RWY 13.
MS | MCCHAREN FIELD | M83 | VOR-A.
NC | PIEDMONT TRIAD INTL | GSO | VOR RWY 05R.
NC | HARNETT RGNL JETPORT | HRJ | VOR/DME RWY 05.
ND | HECTOR INTL | FAR | VOR/DME OR TACAN RWY 18.
ND | SLOULIN FLD INTL | ISN | NDB RWY 29.
NE | BEATRICE MUNI | BIE | VOR RWY 14.
NE | CAMBRIDGE MUNI | CSB | NDB RWY 32.
NE | EPPLEY AIRFIELD | OMA | VOR/DME RWY 32L.
NH | MANCHESTER | MHT | VOR/DME RWY 17.
NJ | MILLVILLE MUNI | MIV | NDB RWY 14.
NJ | HAMMONTON MUNI | N81 | VOR-A.
NM | ALAMOGORDO-WHITE SANDS RGNL | ALM | VOR/DME RWY 03.
NM | GRANT COUNTY | SVC | VOR/DME-B.
NV | BATTLE MOUNTAIN | BAM | VOR-A.
NV | ELY ARPT/YELLAND FLD/ | ELY | VOR-A.
NY | GREATER BINGHAMTON/EDWIN A LINK FIELD | BGM | VOR/DME RWY 28.
NY | DUTCHESS COUNTY | POU | VOR/DME RWY 06.
NY | GREATER ROCHESTER INTL | ROC | VOR/DME RWY 04.
OH | JAMES M. COX DAYTON INTL | DAY | NDB RWY 6R.
OH | CLERMONT COUNTY | I69 | NDB RWY 22.
OH | SPRINGFIELD-BECKLEY MUNI | SGH | VOR RWY 24.
OK | DURANT RGNL-EAKER FIELD | DUA | VOR/DME RWY 17.
OK | CLAREMORE RGNL | GCM | VOR/DME-A.
SC | AIKEN MUNI | AIK | VOR/DME-A.
SD | WATERTOWN RGNL | ATY | VOR/DME OR TACAN RWY 35.
TX | C DAVID CAMPBELL FIELD-CORSICANA MUNI | CRS | VOR/DME-B.
TX | DALLAS/FORT WORTH INTL | DFW | VOR RWY 31L.
TX | DEL RIO INTL | DRT | NDB RWY 13.
TX | WICHITA VALLEY | F14 | VOR/DME-C.
TX | GRANBURY RGNL | GDJ | VOR/DME-A.
TX | EAST TEXAS RGNL | GGG | NDB RWY 13.
TX | WILLIAM P HOBBY | HOU | VOR/DME RWY 04.
TX | WILLIAM P HOBBY | HOU | VOR/DME RWY 30L.
TX | WILLIAM P HOBBY | HOU | VOR/DME-E.
TX | SULPHUR SPRINGS MUNI | SLR | VOR-A.
UT | SALT LAKE CITY INTL | SLC | VOR/DME OR TACAN RWY 16L.
UT | SALT LAKE CITY INTL | SLC | VOR/DME OR TACAN RWY 17.
UT | SALT LAKE CITY INTL | SLC | VOR/DME RWY 34R.
VA | NORFOLK INTL | ORF | VOR RWY 23.
VA | NORFOLK INTL | ORF | VOR/DME RWY 05.
VA | NEWPORT NEWS/WILLIAMSBURG INTL | PHF | NDB RWY 20.
VT | RUTLAND-SOUTHERN VERMONT RGNL | RUT | VOR/DME RWY 19.
WA | WALLA WALLA RGNL | ALW | NDB RWY 20.
WA | BOWERMAN | HQM | VOR/DME RWY 24.
WI | CENTRAL WISCONSIN | CWA | VOR OR GPS-A.
WI | AUSTIN STRAUBEL INTL | GRB | VOR/DME OR TACAN RWY 36.
WI | LA CROSSE MUNI | LSE | NDB RWY 18.

The following procedures will be removed effective March 31, 2016.

State | Airport name | ID | Approach procedure
AK | EMMONAK | ENM | VOR RWY 34.
AK | MC GRATH | MCG | VOR-A.
AK | RALPH WIEN MEMORIAL | OTZ | VOR RWY 09.
AK | RALPH WIEN MEMORIAL | OTZ | VOR RWY 27.
AK | SAND POINT | SDP | NDB/DME RWY 13.
AK | SHISHMAREF | SHH | NDB RWY 23.
AL | AUBURN UNIVERSITY RGNL | AUO | VOR RWY 29.
AL | NORTHWEST ALABAMA RGNL | MSL | VOR RWY 29.
AR | SOUTH ARKANSAS RGNL AT GOODWIN FIELD | ELD | VOR RWY 22.
AR | DRAKE FIELD | FYV | VOR-A.
AR | THOMPSON-ROBBINS | HEE | VOR RWY 17.
AR | GRIDERFIELD | PBF | VOR RWY 18.
AR | STUTTGART MUNI | SGT | VOR/DME-A.
CA | MEADOWS FIELD | BFL | VOR/DME RWY 30R.
CA | SACRAMENTO MATHER | MHR | VOR/DME RWY 22L.
CA | SAN FRANCISCO INTL | SFO | VOR RWY 19L.
CA | CHARLES M. SCHULZ-SONOMA COUNTY | STS | VOR/DME RWY 32.
DC | RONALD REAGAN WASHINGTON NATIONAL | DCA | VOR RWY 15, formerly VOR/DME OR GPS RWY 15.
DC | RONALD REAGAN WASHINGTON NATIONAL | DCA | VOR RWY 19, formerly VOR/DME OR GPS RWY 19.
DC | RONALD REAGAN WASHINGTON NATIONAL | DCA | VOR/DME RWY 01.
FL | FORT LAUDERDALE/HOLLYWOOD INTL | FLL | VOR RWY 28R.
FL | ORLANDO INTL | MCO | VOR/DME RWY 36L.
FL | ORLANDO INTL | MCO | VOR/DME RWY 36R.
GA | SOUTHWEST GA. RGNL | ABY | NDB RWY 4.
IA | WATERLOO RGNL | ALO | VOR RWY 36.
IA | CLINTON MUNI | CWI | VOR RWY 03.
IA | OTTUMWA RGNL | OTM | VOR RWY 31.
IA | SIOUX GATEWAY/COL. BUD DAY FIELD | SUX | VOR OR TACAN RWY 31.
IA | NEWTON MUNI | TNU | VOR RWY 32.
ID | COEUR D'ALENE-PAPPY BOYINGTON FIELD | COE | VOR RWY 06.
ID | IDAHO FALLS RGNL | IDA | NDB RWY 20.
ID | LEWISTON-NEZ PERCE COUNTY | LWS | VOR RWY 26.
IL | VERMILION REGIONAL | DNV | VOR RWY 21.
IL | DUPAGE | DPA | VOR RWY 2L.
IL | GALESBURG MUNI | GBG | VOR RWY 03.
IL | LEWIS UNIVERSITY | LOT | VOR RWY 09.
IL | LAWRENCEVILLE-VINCENNES INTL | LWV | VOR RWY 18.
IL | QUINCY RGNL-BALDWIN FIELD | UIN | VOR RWY 04.
IN | WARSAW MUNI | ASW | VOR RWY 27.
IN | GOSHEN MUNI | GSH | VOR RWY 27.
IN | DE KALB COUNTY | GWB | VOR RWY 09.
IN | DELAWARE COUNTY RGNL | MIE | VOR RWY 32.
IN | RICHMOND MUNI | RID | VOR RWY 24.
IN | RICHMOND MUNI | RID | VOR RWY 33.
KS | LIBERAL MID-AMERICA RGNL | LBL | VOR RWY 35.
MA | LAURENCE G. HANSCOM FIELD | BED | NDB RWY 29.
MA | MARTHAS VINEYARD | MVY | VOR RWY 24.
MA | ORANGE MUNI | ORE | NDB RWY 01.
MA | ORANGE MUNI | ORE | NDB RWY 32.
MD | BALTIMORE/WASHINGTON INTL THURGOOD MARSHALL | BWI | VOR RWY 10.
MD | BALTIMORE/WASHINGTON INTL THURGOOD MARSHALL | BWI | VOR/DME RWY 33L.
MD | SALISBURY-OCEAN CITY WICOMICO RGNL | SBY | VOR RWY 23.
MD | SALISBURY-OCEAN CITY WICOMICO RGNL | SBY | VOR RWY 32.
ME | LITTLEBROOK AIR PARK | 3B4 | NDB-B.
ME | SANFORD SEACOAST RGNL | SFM | VOR RWY 07.
MI | ALPENA COUNTY RGNL | APN | VOR RWY 01.
MI | SOUTHWEST MICHIGAN RGNL | BEH | NDB RWY 28.
MI | HOUGHTON COUNTY MEMORIAL | CMX | VOR RWY 13.
MI | DELTA COUNTY | ESC | VOR RWY 09.
MI | DELTA COUNTY | ESC | VOR RWY 27.
MI | MANISTEE CO.-BLACKER | MBL | VOR RWY 28.
MI | CUSTER | TTF | VOR RWY 03.
MN | WILLMAR MUNI-JOHN L RICE FIELD | BDH | VOR RWY 13.
MN | FAIRMONT MUNI | FRM | VOR RWY 13.
MN | FAIRMONT MUNI | FRM | VOR RWY 31.
MN | RANGE RGNL | HIB | VOR RWY 13.
MN | RANGE RGNL | HIB | VOR RWY 31.
MN | LITCHFIELD MUNI | LJF | VOR/DME RWY 13.
MN | MANKATO RGNL | MKT | VOR RWY 33.
MN | WORTHINGTON MUNI | OTG | VOR RWY 36.
MN | PARK RAPIDS MUNI-KONSHOK FIELD | PKD | VOR RWY 31.
MT | WOKAL FIELD/GLASGOW INTL | GGW | NDB RWY 30.
NC | TARBORO-EDGECOMBE | ETC | NDB RWY 27.
NC | COASTAL CAROLINA REGIONAL | EWN | VOR RWY 04.
NC | MICHAEL J. SMITH FIELD | MRH | NDB RWY 21.
ND | DEVILS LAKE RGNL | DVL | VOR RWY 21.
NE | MC COOK BEN NELSON RGNL | MCK | VOR RWY 12.
NE | MC COOK BEN NELSON RGNL | MCK | VOR RWY 22.
NE | SEARLE FIELD | OGA | VOR RWY 08.
NE | SEARLE FIELD | OGA | VOR RWY 26.
NE | SEARLE FIELD | OGA | VOR/DME RWY 08.
NE | SIDNEY MUNI/LLOYD W. CARR FIELD | SNY | VOR RWY 13.
NE | SIDNEY MUNI/LLOYD W. CARR FIELD | SNY | VOR RWY 31.
NH | BERLIN RGNL | BML | VOR-B.
NH | MANCHESTER | MHT | VOR RWY 35.
NH | PORTSMOUTH INTL AT PEASE | PSM | VOR RWY 16.
NH | PORTSMOUTH INTL AT PEASE | PSM | VOR RWY 34.
NJ | NEWARK LIBERTY INTL | EWR | VOR/DME RWY 22L.
NJ | NEWARK LIBERTY INTL | EWR | VOR/DME RWY 22R.
NJ | SOLBERG-HUNTERDON | N51 | VOR-A.
NM | FOUR CORNERS RGNL | FMN | VOR RWY 23.
NM | FOUR CORNERS RGNL | FMN | VOR RWY 25.
NM | LAS VEGAS MUNI | LVS | VOR RWY 02.
NV | DERBY FIELD | LOL | VOR OR GPS-C.
NY | GREATER BINGHAMTON/EDWIN A LINK FIELD | BGM | VOR RWY 10.
NY | WESTCHESTER COUNTY | HPN | VOR/DME-A.
NY | ITHACA TOMPKINS RGNL | ITH | VOR RWY 32.
NY | LA GUARDIA | LGA | VOR/DME-G.
NY | LA GUARDIA | LGA | VOR-F.
OH | AIRBORNE AIRPARK | ILN | NDB RWY 22R.
OH | AIRBORNE AIRPARK | ILN | NDB RWY 4L.
OH | AIRBORNE AIRPARK | ILN | VOR RWY 04L.
OH | AIRBORNE AIRPARK | ILN | VOR RWY 22R.
OH | AIRBORNE AIRPARK | ILN | VOR/DME RWY 22R.
OH | NEWARK-HEATH | VTA | NDB OR GPS RWY 9.
OK | ADA MUNI | ADH | VOR/DME-A.
OK | UNIVERSITY OF OKLAHOMA WESTHEIMER | OUN | NDB RWY 03.
OK | UNIVERSITY OF OKLAHOMA WESTHEIMER | OUN | NDB RWY 35.
OK | STILLWATER RGNL | SWO | NDB RWY 17.
OR | SOUTHWEST OREGON RGNL | OTH | NDB RWY 04.
SC | DILLON COUNTY | DLC | NDB RWY 07.
SC | HARTSVILLE RGNL | HVS | NDB RWY 3.
SD | MITCHELL MUNI | MHE | VOR RWY 30.
SD | CHAN GURNEY MUNI | YKN | VOR RWY 31.
TN | FAYETTEVILLE MUNI | FYM | NDB RWY 20.
TN | MCMINN COUNTY | MMI | NDB RWY 20.
TX | BOWIE MUNI | 0F2 | NDB RWY 35.
TX | BROWNWOOD RGNL | BWD | VOR RWY 17.
TX | DEL RIO INTL | DRT | VOR/DME-B.
TX | KERRVILLE MUNI/LOUIS SCHREINER FIELD | ERV | NDB RWY 30.
TX | WILLIAM P HOBBY | HOU | VOR/DME RWY 35.
TX | DALLAS EXECUTIVE | RBD | VOR RWY 31.
TX | LA PORTE MUNI | T41 | NDB RWY 30.
TX | TYLER POUNDS RGNL | TYR | VOR/DME RWY 22.
VA | LYNCHBURG RGNL/PRESTON GLENN FLD | LYH | VOR RWY 04.
WI | KENOSHA RGNL | ENW | VOR RWY 15.
WI | ALEXANDER FIELD SOUTH WOOD COUNTY | ISW | NDB RWY 30.
WI | MARSHFIELD MUNI | MFI | NDB RWY 5.
WI | MANITOWOC COUNTY | MTW | VOR RWY 17.
WI | LAWRENCE J TIMMERMAN | MWC | VOR RWY 15L.
WI | RHINELANDER-ONEIDA COUNTY | RHI | VOR RWY 09.
WV | RALEIGH COUNTY MEMORIAL | BKW | VOR RWY 19.
WV | MERCER COUNTY | BLF | VOR RWY 23.

[FR Doc. 2015-28478 Filed 11-9-15; 8:45 am]

BILLING CODE 4910-13-P